ENVIRONMENTAL PROTECTION AGENCY

[OPP-2002-0269; FRL-7189-6]

Ethoprop; Availability of Interim Reregistration Eligibility Decision Document

AGENCY: Environmental Protection Agency (EPA).

ACTION: Notice.

SUMMARY: This notice announces availability of the Interim Reregistration Eligibility Decision (IRED) document for the pesticide active ingredient ethoprop. The IRED represents EPA's formal regulatory assessment of the health and environmental data base of the subject chemical and presents the Agency's interim determination regarding which pesticidal uses are eligible for reregistration.

FOR FURTHER INFORMATION CONTACT: Anthony Britten, Special Review and Reregistration Division (7508C), Office of Pesticide Programs, Environmental Protection Agency, 1200 Pennsylvania Ave., NW., Washington, DC 20460-0001; telephone number: (703) 308-8179; e-mail address: britten.anthony@epa.gov.

SUPPLEMENTARY INFORMATION:

I. General Information

A. Does this Action Apply to Me?

This action is directed to the public in general. This action may, however, be of interest to persons who are or may be required to conduct testing of chemical substances under the Federal Insecticide, Fungicide, and Rodenticide Act (FIFRA) or the Federal Food, Drug, and Cosmetic Act (FFDCA); environmental, human health, and agricultural advocates; pesticide users; and members of the public interested in the use of pesticides. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2002-0269. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall # 2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. To access IRED documents and IRED fact sheets electronically, go directly to the REDs table on the EPA Office of Pesticide Programs Web site, at http://www.epa.gov/pesticides/reregistration/status.htm.

An electronic version of the latest public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

II. Background

A. What Action is the Agency Taking?

EPA has assessed the risks posed by the use of the active ingredient ethoprop, and issued an IRED for this organophosphate (OP) pesticide. EPA issues an IRED for a pesticide that is undergoing reregistration, requires a reregistration eligibility decision, and also needs a cumulative assessment under FQPA. The IRED, issued after EPA completes the individual pesticide's aggregate risk assessment, may include taking risk reduction measures; for example, reducing risks to workers or eliminating uses that the registrant no longer wishes to maintain, to gain the benefits of these changes before the final RED can be issued following the Agency's consideration of cumulative risks. Through cumulative risk assessment, EPA will consider whether the risks posed by a group of pesticides that act the same way in the body meet the current safety standard of “reasonable certainty of no harm” as defined by the FQPA.

Provided that risk mitigation measures stipulated in the IRED document are adopted, EPA has made the determination that ethoprop fits into its own “risk cup”-- that is, its individual and aggregate risks are within acceptable levels. Thus, ethoprop products, except for the liquid formulation, are eligible for reregistration, pending consideration of the cumulative risk for all OPs. The Agency will make a reregistration eligibility decision for the liquid formulation of ethoprop at a later time, provided certain conditions are fulfilled.

All registrants of pesticide products containing the active ingredient listed in this document have been sent the IRED document, and must respond to labeling requirements and product specific data requirements (if applicable) within 8 months of its receipt. Products also containing other pesticide active ingredients will not be reregistered until those other active ingredients are determined to be eligible for reregistration.

The reregistration program is being conducted under Congressionally mandated time frames, and EPA recognizes both the need to make timely reregistration decisions and to involve the public. EPA worked extensively with affected parties to reach the decisions presented in the IRED document. Numerous opportunities for public comment were offered as the IRED was being developed. The ethoprop IRED document, therefore, is issued in final, without a formal public comment period.

B. What is the Agency's Authority for Taking this Action?

The legal authority for this IRED falls under FIFRA, as amended in 1988 and 1996. Section 4(g)(2)(A) of FIFRA directs that, after submission of all data concerning a pesticide active ingredient, “the Administrator shall determine whether pesticides containing such active ingredient are eligible for reregistration,” before calling in product specific data on individual end-use products, and either reregistering products or taking “other appropriate regulatory action.”

List of Subjects

Environmental protection, Chemicals, Pesticides and pests.

Dated: November 22, 2002.
Lois Rossi,
Director, Special Review and Reregistration Division, Office of Pesticide Programs.

[FR Doc. 02-31163 Filed 12-10-02; 8:45 am]

BILLING CODE 6560-50-S